ENVIRONMENTAL PROTECTION AGENCY

[FRL-7999-1]

Proposal of addition of certain substances to the 1998 Aarhus Persistent Organic Pollutants (POPs) Protocol under the Long-Range Transboundary Air Pollution Convention of the United Nations Economic Commission for Europe (UNECE): Notice of Data Availability

AGENCY: Environmental Protection Agency (EPA).

ACTION: Notice of data availability (NODA).

SUMMARY: This notice announces the availability of data and information concerning dossiers (or proposals) for the addition of hexachlorobutadiene, octabromo diphenyl ether (octaBDE), pentachlorobenzene, polychlorinated napthalenes, short-chain chlorinated parrafins (SCCPs), dicofol, pentabromodiphenyl ether (PeDBE), and perfluorooctane sulfonate (PFOS) as persistent organic pollutants (POPs) submitted to the Secretariat of the 1998 Aarhus POPs Protocol Under the Long-Range Transboundary Air Pollution (LRTAP) Convention of the UNECE. We are issuing this NODA to alert interested and potentially affected parties of these proposals; to announce the substances proposed for inclusion in the Protocol; to provide the Web site where these proposals may be reviewed; to provide the addresses where comments or information may be submitted; and to provide the deadline for submitting comments and information. We are also issuing the NODA to solicit names and contact information for those parties who would like to be notified when proposals under the Aarhus POPs Protocol occur.

DATES: Comments and information on these proposals must be received on or before December 9, 2005.

ADDRESSES: The proposals can be found at the following Web site: http://www.unece.org/env/popsxg/proposals%20for%20NEW%20pops.htm. Comments and information on these proposals should be submitted to the UNECE Secretariat for the POPs Task Force via e-mail at air.env@unece.org. Please provide a copy of your comments and information submitted to Paul Almodóvar of the U.S. EPA, Office of Air Quality Planning and Standards via e-mail at almodovar.paul@epa.gov. If you are interested in being contacted in the future when proposals under this Protocol occur, please notify Paul Almodóvar directly.

FOR FURTHER INFORMATION CONTACT: Paul Almodóvar of the U.S. EPA, Office of Air Quality Planning and Standards, Information Transfer Program Implementation Division, C304-03, Research Triangle Park, North Carolina 27711, telephone number (919) 541-0283, e-mail at almodovar.paul@epa.gov.

SUPPLEMENTARY INFORMATION: Outline: The information presented in this NODA is organized as follows:

I. 1998 Aarhus POPs Protocol Under the Long-Range Transboundary Air Pollution Convention of the UNECE

a. What Is the Long-Range Transboundary Air Pollution (LRTAP) Convention of the UNECE?

b. What Is the 1998 Aarhus POPs Protocol?

II. Proposals for New POPs

a. Who Are the Nominating Countries?

b. What Do the Proposals Address?

c. What Is Involved in the Technical Review of These Proposals?

d. Other Proposals

I. 1998 Aarhus POPs Protocol Under the Long-Range Transboundary Air Pollution Convention of the UNECE

a. What Is the LRTAP Convention of the UNECE?

The LRTAP Convention functions to foster intergovernmental cooperation and has created the essential framework for controlling and reducing the damage to human health and the environment caused by transboundary air pollution. Since entry into force of the Convention 8 specific Protocols have also been completed to address transboundary air pollution, one of which is the 1998 Aarhus POPs Protocol, which today's NODA addresses. The United States is a Party to the LRTAP Convention. The focus of the Parties to the Convention over the next several years will be to ensure implementation of these protocols. Participation in this Convention allows the United States to continue to assert its leadership role in shaping the substance and structure of LRTAP protocols as they continue to tackle complex pollution issues and serve as models for action in other regional bodies, as well as for global environmental agreements.

b. What Is the 1998 Aarhus POPs Protocol?

The 1998 Aarhus POPs Protocol under the LRTAP Convention was established with the objective of controlling, reducing or eliminating discharges, emissions, and losses of POPs. POPs are defined in the Protocol as organic substances that (i) possess toxic characteristics; (ii) are persistent; (iii) bioaccumulate; (iv) are prone to long-range transboundary atmospheric transport and deposition; and (v) are likely to cause significant adverse human health or environmental effects near to and distant from their sources. The Protocol outlines basic obligations for countries that are Parties to the Protocol (have ratified the Protocol) for achieving this objective, and includes methods by which Parties to the Protocol can fulfill the basic obligations, including identifying best available techniques and emission limit values for stationary sources of POPs, and effective measures to control POPs emissions from mobile sources. The Protocol identifies POPs that have been targeted and scheduled for elimination (aldrin, chlorodane, clordecone, DDT, deildrin, endrin, heptachlor, hexabromobiphenyl, hexachlorobenzene, mirex, PCB, and toxaphene; Annex I of the Protocol); for use restrictions (DDT, HCH, PCB; Annex II of the Protocol); and for annual reductions in emissions from a specified reference year, achieved by taking effective measures as appropriate (polycyclic aromatic hydrocarbons (PAHs), Dioxins/furans, and hexachlorobenzene). The Protocol in its entirety can be viewed at the LRTAP POPs Web site at http://www.unece.org/env/lrtap/pops_h1.htm. The United States is currently not a Party to the Aarhus POPs Protocol. Legislation is being developed that would allow the United States to become Parties to, and implement the protocol.

II. Proposals To Include Substances as POPs

a. Who Are the Nominating Countries?

The Protocol provides procedures by which Parties to the Protocol can propose to amend annex I, II, or III by adding substances to the Protocol. These procedures are outlined in Article 14 of the Protocol.

This year, the European Commission has submitted proposals for hexachlorobutadiene, OctaBDE, pentachlorobenzene, polychlorinated napthalenes, and SCCPs, and the Netherlands has submitted a proposal for dicofol.

b. What Do the Proposals Address?

The proposals need to provide information that allows a determination of whether the substance is a POP in the context of the Protocol. The proposals (e.g., risk profiles) are described as a comprehensive review of the scientific information related to the determination of general human health and environmental risks associated with the uses and releases of a substance. Specifically, the proposals document the following characteristics: potential for long-range transport; toxicity; persistence; and bioaccumulation. The POPs Protocol provides guidance on numerical descriptors, as appropriate, to assist in the evaluation of the above characteristics in the context of the program. In addition to individual determinations, the evaluation includes a consideration as to whether sufficient information exists to suggest that the substance is likely to have significant adverse human health and/or environmental effects as a result of its long-range transboundary atmospheric transport (LRAT). The protocol also provides guidance to assist in the evaluation of socio-economic information to help frame the strategy for reducing risks from the proposed substances. The proposal must include, as available, information on release to the environment, including production, uses, and emissions, plus socio-economic factors related to the alternatives and/or techniques available to reduce emissions of the proposed substance. At this time, the proposals are available for public review and submission of comments and information (see the ADDRESSES section of this NODA for where to find these proposals) to supplement information contained in the dossiers. All relevant comments and information will be considered during the technical reviews of these proposals.

c. What Is Involved in the Technical Review of These Proposals?

The Executive Body (EB) (which is the Convention's “conference of the parties”), has decided that the Task Force on POPs shall prepare technical reviews of such proposals when requested to do so, and present relevant documentation on the proposals to the Working Group on Strategies and Review (WGSR). The WGSR is the group under the Convention which amongst other activities, develops “strategies (i.e., negotiates) for action on substances and proposes such actions for adoption by the EB. Membership of the Task Force is open to experts from all Parties to the Convention, and to authorized representatives of intergovernmental or accredited non-governmental organizations. The Task Force on POPs receives its instructions from the annual work plan of the EB, but reports to the WGSR.

A definitive description of the process for technical reviews of the proposals can be found at the following Web site: http://www.unece.org/env/popsxg/proposals%20for%20NEW%20pops.htm.

The proposals submitted by the European Commission and the Netherlands will be considered by the EB of the Convention at its session on December 12-15, 2005 for acceptability and referral to the Task Force on POPs for technical review. These proposals can be reviewed at the website listed above in the ADDRESSES section of this NODA. Comments and information may be submitted until December 9, 2005 to the entities listed in the ADDRESSES section.

d. Other Proposals

Last year Norway submitted a proposal for pentbromodiphenyl ether (PeBDE) and Sweden submitted a proposal for perfluorocotane sulfonate (PFOS). These proposals were referred by the EB of the Convention for technical review to the Task Force on POPs in its session in December 2004. Both of these substances underwent the first stage of technical review by the Task Force on POPs, and have been recommended by the WGSR as POPs, as defined under the POPs Protocol to the EB of the Convention. (http://www.unece.org/env/documents/2005/eb/wg5/eb.air.wg.5.2005.1.e.pdf).

Based on the recommendation of the WGSR, the Task Force on POPs is expected to be asked by the EB to develop proposed management strategies for both PeBDE and PFOS. To develop these management strategies, information on production/uses/emissions, measured environmental levels in areas distant from sources, abiotic and biotic degradation processes, and rates, degradation products, bio-availability; and socio-economic factors related to the alternatives and/or the techniques available to reduce the emissions of the proposed substance including: Alternatives to the existing uses and their efficacy; any known adverse environmental or human health effects associated with the alternatives; process changes, control technologies, operating practices, and other pollution prevention techniques which can be used to reduce the emissions of the substance, and their applicability and effectiveness; and the non-monetary costs and benefits as well as the quantifiable costs and benefits associated with the use of these alternatives and/or techniques is being sought. This information may be submitted until December 9, 2005 to the entities listed in the ADDRESSES section.

Dated: November 14, 2005.
William L. Wehrum,
Acting Assistant Administrator for Air and Radiation.

[FR Doc. 05-23227 Filed 11-22-05; 8:45 am]

BILLING CODE 6560-50-P